DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on October 5, 2001 (66 FR 51093).

DATES: Comments must be submitted on or before March 29, 2002.

FOR FURTHER INFORMATION CONTACT: Tina Morgan at the National Highway Traffic Safety Administration, Office of Plans and Policy (NPP-22), 202-366-2562. 400 Seventh Street, SW, Room 5208, Washington, DC 20590.

SUPPLEMENTARY INFORMATION:

National Highway Traffic Safety Administration

Title: Highway Crash Data Collection for Evaluation of Antilock Braking Systems (ABS) & Rear Impact Guards.

OMB Number: 2127—New.

Type of Request: New Collection.

Abstract: Safety standard 121 (49 CFR 571.121) requires Antilock Brake Systems (ABS) on air-brake equipped truck-tractors manufactured on or after March 1, 1997 and on semi trailers and single-unit trucks equipped with air-brakes and manufactured on or after March 1, 1998. Safety Standards 223 (49 CFR 571.223) and 224 (49 CFR 571.224) set minimum requirements for the geometry, configuration, strength and energy absorption capability of rear impact guards on full trailers and semi trailers over 10,000 pounds Gross Vehicle Weight Rating manufactured on or after, January 26, 1998. NHTSA's Office of Plans and Policy is planning a highway crash data collection effort that will provide adequate information to perform an evaluation of the effectiveness of ABS and rear impact guards for heavy trucks.

Affected Public: State and Local Governments.

Estimated Total Annual Burden: 4,373.

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on February 20, 2002.
Delmas Maxwell Johnson,
Associate Administrator for Administration.

[FR Doc. 02-4634 Filed 2-26-02; 8:45 am]

BILLING CODE 4910-59-P